DEPARTMENT OF ENERGY

Federal Energy Regulatory Commission

[Docket No. EL03-52-000]

Public Service Company of New Mexico Complainant, v. Arizona Public Service Company Respondent; Notice of Complaint

February 27, 2003.

Take notice that on February 26, 2003, Public Service Company of New Mexico (PNM), 2401 Aztec Road, NE., Albuquerque, New Mexico, 87107, filed with the Federal Energy Regulatory Commission a complaint against Arizona Public Service Company (APS) regarding APS' rejection of PNM's attempts to exercise rights of first refusal related to two separate long-term point-to-point transmission service agreements on APS' transmission system.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: March 18, 2003.

Magalie R. Salas,
Secretary.

[FR Doc. 03-5111 Filed 3-4-03; 8:45 am]

BILLING CODE 6717-01-P